NATIONAL SCIENCE FOUNDATION

Business and Operations Advisory Committee; Notice of Meeting

In accordance with the Federal Advisory Committee Act (Pub. L. 92-463, as amended), the National Science Foundation announces the following meeting:

Name: Business and Operations Advisory Committee (9556).

Date/Time: May 27, 2015; 1:00 p.m. to 5:30 p.m. (EST).

May 28, 2015; 9:00 a.m. to 12:00 p.m. (EST)

Place: National Science Foundation, 4201 Wilson Boulevard, Arlington, Virginia 22230; Stafford I, Room 1235.

Type of Meeting: Open.

Contact Person: Joan Miller, National Science Foundation, 4201 Wilson Boulevard, Arlington, VA 22230 (703) 292-8200.

Purpose of Meeting: To provide advice concerning issues related to the oversight, integrity, development and enhancement of NSF's business operations.

Agenda

May 27, 2015

Welcome/Introductions; Discussion with Chief Operating Officer; NSF Relocation-Business Process Planning; iTRAK Implementation-Business Process Impact; Operational Change Experiences; Committee Discussion.

May 28, 2015

BFA/OIRM Updates; Documentation of BOAC Recommendations; Briefing on the National Academy of Public Administration (NAPA) Study of NSF's Use of Cooperative Agreements to Support Large Scale Investments in Science and Technology; Meeting Wrap-Up.

Dated: May 8, 2015.
Suzanne Plimpton,
Acting, Committee Management Officer.

[FR Doc. 2015-11576 Filed 5-13-15; 8:45 am]

BILLING CODE 7555-01-P